DEPARTMENT OF HOMELAND SECURITY

Federal Emergency Management Agency

[Docket ID FEMA-2019-0002]

Changes in Flood Hazard Determinations

AGENCY: Federal Emergency Management Agency, DHS.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and are used to calculate the appropriate flood insurance premium rates for new buildings, and for the contents in those buildings. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Michael M. Grimm,
Assistant Administrator for Risk Management, Department of Homeland Security, Federal Emergency Management Agency.

State and county | Location and case No. | Chief executive officer of community | Community map repository | Date of modification | Community No.
Arizona:
Maricopa (FEMA Docket No.: B-1907). | City of Avondale (18-09-0518P). | The Honorable Kenneth N. Weise, Mayor, City of Avondale, 11465 West Civic Center Drive, Avondale, AZ 85323. | Development & Engineering Services Department, 11465 West Civic Center Drive, Avondale, AZ 85323. | Apr. 19, 2019 | 040038
Maricopa (FEMA Docket No.: B-1872). | City of Scottsdale (18-09-1514P). | The Honorable W.J. “Jim” Lane, Mayor, City of Scottsdale, City Hall, 3939 North Drinkwater Boulevard, Scottsdale, AZ 85251. | Planning Records, 7447 East Indian School Road, Suite 100, Scottsdale, AZ 85251. | Mar. 15, 2019 | 045012
Maricopa (FEMA Docket No.: B-1872). | Town of Paradise Valley (18-09-1514P). | The Honorable Michael Collins, Mayor, Town of Paradise Valley, 6401 East Lincoln Drive, Paradise Valley, AZ 85253. | Town Hall, 6401 East Lincoln Drive, Paradise Valley, AZ 85253. | Mar. 15, 2019 | 040049
Maricopa (FEMA Docket No.: B-1907). | Unincorporated Areas of Maricopa County (18-09-0518P). | The Honorable Steve Chucri, Chairman, Board of Supervisors, Maricopa County, 301 West Jefferson Street, 10th Floor, Phoenix, AZ 85003. | Flood Control District of Maricopa County, 2801 West Durango Street, Phoenix, AZ 85009. | Apr. 19, 2019 | 040037
California:
Placer (FEMA Docket No.: B-1901). | Unincorporated Areas of Placer County (18-09-2198P). | The Honorable Jim Holmes, Chairman, Board of Supervisors, Placer County, 175 Fulweiler Avenue, Auburn, CA 95603. | Placer County, Department of Public Works, 3091 County Center Drive, Suite 220, Auburn, CA 95603. | Apr. 8, 2019 | 060239
Riverside (FEMA Docket No.: B-1870). | City of Riverside (18-09-1163P). | The Honorable Rusty Bailey, Mayor, City of Riverside, 3900 Main Street, Riverside, CA 92522. | Planning and Building Department, 3900 Main Street, Riverside, CA 92501. | Feb. 6, 2019 | 060260
Sacramento (FEMA Docket No.: B-1901). | City of Sacramento (17-09-2500P). | The Honorable Darrell Steinberg, Mayor, City of Sacramento, City Hall, 915 I Street, 5th Floor, Sacramento, CA 95814. | Department of Utilities, Stormwater Program Management, 1395 35th Avenue, Sacramento, CA 95822. | Mar. 25, 2019 | 060266
Sacramento (FEMA Docket No.: B-1901). | Unincorporated Areas of Sacramento County (17-09-2500P). | The Honorable Susan Peters, Chair, Board of Supervisors, Sacramento County, 700 H Street, Suite 2450, Sacramento, CA 95814. | Sacramento County, Department of Water Resources, 827 7th Street, Suite 301, Sacramento, CA 95814. | Mar. 25, 2019 | 060262
Santa Clara (FEMA Docket No.: B-1870). | City of San Jose (18-09-1360P). | The Honorable Sam Liccardo, Mayor, City of San Jose, 200 East Santa Clara Street, 18th Floor, San Jose, CA 95113. | Department of Public Works, 200 East Santa Clara Street, 3rd Floor, San Jose, CA 95113. | Mar. 7, 2019 | 060349
Florida:
Broward (FEMA Docket No.: B-1870). | City of Hollywood (18-04-1751P). | The Honorable Josh Levy, Mayor, City of Hollywood, 2600 Hollywood Boulevard, Room 419, Hollywood, FL 33022. | City Hall, 2600 Hollywood Boulevard, Hollywood, FL 33022. | Feb. 22, 2019 | 125113
St. Johns (FEMA Docket No.: B-1870). | Unincorporated Areas of St. Johns County (18-04-3472P). | Mr. Henry Dean, Chairman, St. Johns County Board of Commissioners, St. Johns County Administration, 500 San Sebastian View, St. Augustine, FL 32084. | St. Johns County Administration Building, 4020 Lewis Speedway, St. Augustine, FL 32084. | Feb. 28, 2019 | 125147
St. Johns (FEMA Docket No.: B-1870). | Unincorporated Areas of St. Johns County (18-04-4670P). | Mr. Henry Dean, Chairman, St. Johns County Board of Commissioners, St. Johns County Administration, 500 San Sebastian View, St. Augustine, FL 32084. | St. Johns County Administration Building, 4020 Lewis Speedway, St. Augustine, FL 32084. | Mar. 1, 2019 | 125147
St. Johns (FEMA Docket No.: B-1872). | Unincorporated Areas of St. Johns County (18-04-6389P). | Mr. Henry Dean, Chairman, St. Johns County Board of Commissioners, 500 San Sebastian View, St. Augustine, FL 32084. | St. Johns County Administration Building, 4020 Lewis Speedway, St. Augustine, FL 32084. | Mar. 20, 2019 | 125147
St. Johns (FEMA Docket No.: B-1907). | Unincorporated Areas of St. Johns County (18-04-6798P). | Mr. Henry Dean, Chairman, St. Johns County Board of Commissioners, 500 San Sebastian View, St. Augustine, FL 32084. | St. Johns County Administration Building, 4020 Lewis Speedway, St. Augustine, FL 32084. | Apr. 25, 2019 | 125147
Walton (FEMA Docket No.: B-1907). | Unincorporated Areas of Walton County (18-04-4592P). | Mr. Trey Nick, Commissioner, Walton County, 263 Chaffin Avenue, DeFuniak Springs, FL 32433. | Walton County Courthouse Annex, 47 North 6th Street, DeFuniak Springs, FL 32435. | May 2, 2019 | 120317
Idaho: Ada (FEMA Docket No.: B-1872). | City of Boise (18-10-0336P). | The Honorable David Bieter, Mayor, City of Boise, P.O. Box 500, Boise, ID 83701. | Planning and Development Services, City Hall, 150 North Capital Boulevard, Boise, ID 83701. | Mar. 11, 2019 | 160002
Illinois:
Cook (FEMA Docket No.: B-1872). | Village of Northbrook (18-05-5952P). | The Honorable Sandra E. Frum, Village President, Village of Northbrook, 1225 Cedar Lane, Northbrook, IL 60062. | Public Works Department, Engineering Division, 655 Huehl Road, Northbrook, IL 60062. | Mar. 1, 2019 | 170132
McHenry (FEMA Docket No.: B-1872). | Unincorporated Areas of McHenry County (18-05-5951P). | The Honorable Jack D. Franks, Chairman, McHenry County Board, McHenry County Government Center, 2200 North Seminary Avenue, Woodstock, IL 60098. | McHenry County Government Center, 2200 North Seminary Avenue, Woodstock, IL 60098. | Mar. 20, 2019 | 170732
Indiana:
Allen (FEMA Docket No.: B-1870). | City of Fort Wayne (18-05-2605P). | The Honorable Tom Henry, Mayor, City of Fort Wayne, Citizens Square, 200 East Berry Street, Suite 420, Fort Wayne, IN 46802. | Department of Planning Services, 200 East Berry Street, Suite 150, Fort Wayne, IN 46802. | Feb. 22, 2019 | 180003
Madison (FEMA Docket No.: B-1872). | City of Anderson (17-05-5967P). | The Honorable Thomas J. Broderick, Jr., Mayor, City of Anderson, Anderson City Building, 120 East 8th Street, Anderson, IN 46016. | City Hall, 120 East 8th Street, Anderson, IN 46016. | Mar. 15, 2019 | 180150
Madison (FEMA Docket No.: B-1872). | Town of Country Club Heights (17-05-5967P). | The Honorable Carey McLaughlin, Town Manager, Town of County Club Heights, 30 Overlook Drive, Anderson, IN 46011. | Administrative Building, 1202 North Madison Avenue, Anderson, IN 46011. | Mar. 15, 2019 | 180451
Madison (FEMA Docket No.: B-1872). | Town of Woodlawn Heights (17-05-5967P). | The Honorable Steve Murphy, Town Manager, Town of Woodlawn Heights, P.O. Box 888, Anderson, IN 46015. | Town Hall, 1625 Van Buskirk Road, Anderson, IN 46015. | Mar. 15, 2019 | 180495
Madison (FEMA Docket No.: B-1872). | Unincorporated Areas of Madison County (17-05-5967P). | The Honorable John Richwine, President, Madison County Board of Commissioners, Government Center, 16 East 9th Street, Anderson, IN 46016. | Madison County, Government Center, 16 East 9th Street, Room 200, Anderson, IN 46016. | Mar. 15, 2019 | 180442
Kansas:
Douglas (FEMA Docket No.: B-1907). | City of Lawrence (18-07-0976P). | The Honorable Stuart Boley, Mayor, City of Lawrence, P.O. Box 708, Lawrence, KS 66044. | City Hall, 6 East 6th Street, Lawrence, KS 66044. | Apr. 29, 2019 | 200090
Douglas (FEMA Docket No.: B-1907). | Unincorporated Areas of Douglas County (18-07-0976P). | Mr. Mike Gaughan, Douglas County Commissioner, 1st District, County Courthouse, 1100 Massachusetts Street, Lawrence, KS 66044. | Douglas County Zoning & Codes Department, 2108 West 27th Street, Suite I, Lawrence, KS 66047. | Apr. 29, 2019 | 200087
Johnson (FEMA Docket No.: B-1870). | City of Lenexa (18-07-1607P). | The Honorable Michael Boehm, Mayor, City of Lenexa, 8522 Caenen Lake Court, Lenexa, KS 66215. | City Hall, 12350 West 87th Street Parkway, Lenexa, KS 66215. | Mar. 13, 2019 | 200168
Johnson (FEMA Docket No.: B-1907). | City of Shawnee (18-07-1702P). | The Honorable Michelle Distler, Mayor, City of Shawnee City Hall, 11110 Johnson Drive, Shawnee, KS 66203. | City Hall, 11110 Johnson Drive, Shawnee, KS 66203. | Apr. 17, 2019 | 200177
Johnson (FEMA Docket No.: B-1907). | City of Shawnee (18-07-2005P). | The Honorable Michelle Distler, Mayor, City of Shawnee City Hall, 11110 Johnson Drive, Shawnee, KS 66203. | City Hall, 11110 Johnson Drive, Shawnee, KS 66203. | Apr. 17, 2019 | 200177
Johnson (FEMA Docket No.: B-1907). | City of Shawnee (18-07-2117P). | The Honorable Michelle Distler, Mayor, City of Shawnee City Hall, 11110 Johnson Drive, Shawnee, KS 66203. | City Hall, 11110 Johnson Drive, Shawnee, KS 66203. | Apr. 17, 2019 | 200177
Lyon (FEMA Docket No.: B-1872). | City of Emporia (18-07-1531P). | The Honorable Danny Giefer, Mayor, City of Emporia, P.O. Box 928, Emporia, KS 66801. | Water Department, 104 East 5th Avenue, Emporia, KS 66801. | Mar. 12, 2019 | 200203
Massachusetts:
Middlesex (FEMA Docket No.: B-1907). | City of Lowell (18-01-1941P). | The Honorable William Samaras, Mayor, City of Lowell City Hall, 375 Merrimack Street, Lowell, MA 01852. | City Hall, 375 Merrimack Street, Lowell, MA 01852. | May 9, 2019 | 250201
Middlesex (FEMA Docket No.: B-1907). | Town of Dracut (18-01-1941P). | The Honorable Jesse Forcier, Chairman, Town of Dracut Board of Selectmen, Town Hall, 62 Arlington Street, Dracut, MA 01826. | Town Hall, 62 Arlington Street, Dracut, MA 01826. | May 9, 2019 | 250190
Middlesex (FEMA Docket No.: B-1907). | Town of Tewksbury (18-01-1941P). | The Honorable Jay J. Kelly, Chairman, Town of Tewksbury Board of Selectmen, Town Hall, 1009 Main Street, 2nd Floor, Tewksbury, MA 01876. | Town Hall, 1009 Main Street, Tewksbury, MA 01876. | May 9, 2019 | 250218
Michigan:
Macomb (FEMA Docket No.: B-1901). | City of Sterling Heights (18-05-4204P). | The Honorable Michael C. Taylor, Mayor, City of Sterling Heights, P.O. Box 8009, Sterling Heights, MI 48311. | City Hall, 40555 Utica Road, Sterling Heights, MI 48311. | Mar. 21, 2019 | 260128
Ottawa (FEMA Docket No.: B-1901). | City of Hudsonville (18-05-4330P). | The Honorable Mark Northrup, Mayor, City of Hudsonville, 3275 Central Boulevard, Hudsonville, MI 49426. | City Hall, 3275 Central Boulevard, Hudsonville, MI 49426. | Mar. 28, 2019 | 260493
Minnesota:
Carver (FEMA Docket No.: B-1872). | City of Waconia (18-05-4974P). | The Honorable Jim Sanborn, Mayor, City of Waconia City Hall, 201 South Vine Street, Waconia, MN 55387. | City Hall, 201 South Vine Street, Waconia, MN 55387. | Dec. 26, 2018 | 270055
Washington (FEMA Docket No.: B-1870). | City of Lake Elmo (18-05-3738P). | The Honorable Mike Pearson, Mayor, City of Lake Elmo, 2805 Lisbon Avenue North, Lake Elmo, MN 55042. | City Hall, 3800 Laverne Avenue, Lake Elmo, MN 55042. | Mar. 7, 2019 | 270505
Nebraska:
Cass (FEMA Docket No.: B-1907). | City of Louisville (18-07-0041P). | The Honorable Roger Behrns, Mayor, City of Louisville, P.O. Box 370, Louisville, NE 68037. | City Hall, 210 Main Street, Louisville, NE 68037. | May 3, 2019 | 310031
Lancaster (FEMA Docket No.: B-1901). | City of Waverly (18-07-0490P). | The Honorable Mike Werner, Mayor, City of Waverly, P.O. Box 427, Waverly, NE 68462. | City Hall, 14130 Lancashire, Waverly, NE 68462. | Apr. 26, 2019 | 310140
Nevada:
Clark (FEMA Docket No.: B-1872). | City of North Las Vegas (18-09-0886P). | The Honorable John J. Lee, Mayor, City of North Las Vegas, 2250 Las Vegas Boulevard North, North Las Vegas, NV 89030. | Public Works Department, 2200 Civic Center Drive, North Las Vegas, NV 89030. | Mar. 12, 2019 | 320007
Douglas (FEMA Docket No.: B-1907). | Unincorporated Areas of Douglas County (18-09-1883P). | The Honorable Steve Thaler, Chairman, Board of Commissioners Douglas County, P.O. Box 218, Minden, NV 89423. | Douglas County Community Development, 1594 Esmeralda Avenue, Minden, NV 89423. | May 3, 2019 | 320008
New Jersey:
Monmouth (FEMA Docket No.: B-1872). | Borough of Atlantic Highlands (18-02-1965P). | The Honorable Rhonda Le Grice, Mayor, Borough of Atlantic Highlands Borough Hall, 100 1st Avenue, Atlantic Highlands, NJ 07716. | Borough Hall, 100 1st Avenue, Atlantic Highlands, NJ 07716. | Mar. 21, 2019 | 340286
Monmouth (FEMA Docket No.: B-1872). | Borough of Highlands (18-02-1965P). | The Honorable Rick O'Neil, Mayor, Borough of Highlands Administrative Offices, 42 Shore Drive, Highlands, NJ 07732. | Municipal Office, 42 Shore Drive, Highlands, NJ 07732. | Mar. 21, 2019 | 345297
New York: Westchester (FEMA Docket No.: B-1872). | City of Rye (18-02-1994P). | The Honorable Josh Cohn, Mayor, City of Rye, 1051 Boston Post Road, Rye, NY 10580. | City Hall, 1051 Boston Post Road, Rye, NY 10580. | May 2, 2019 | 360931
Ohio: Montgomery (FEMA Docket No.: B-1907). | City of Englewood (18-05-6276P). | Mr. William J. Singer, Development Director City of Englewood, 333 West National Road, Englewood, OH 45322. | Government Center, 333 West National Road, Englewood, OH 45322. | May 6, 2019 | 390828
Oregon:
Benton (FEMA Docket No.: B-1901). | Unincorporated Areas of Benton County (18-10-0715P). | The Honorable Xanthippe Augerot, Chair, Benton County Board of Commissioners, P.O. Box 3020, Corvallis, OR 97339. | Benton County Sheriff's Office, 180 Northwest 5th Street, Corvallis, OR 97333. | Mar. 28, 2019 | 410008
Marion (FEMA Docket No.: B-1907). | City of Salem (18-10-1215P). | The Honorable Chuck Bennett, Mayor, City of Salem City Hall, 555 Liberty Street Southeast, Room 220, Salem, OR 97301. | Public Works Department, 555 Liberty Street Southeast, Room 325, Salem, OR 97301. | May 9, 2019 | 410167
Marion (FEMA Docket No.: B-1907). | Unincorporated Areas of Marion County (18-10-1215P). | Ms. Janet Carlson, Chair, Marion County Board of Commissioners, P.O. Box 14500, Salem, OR 97309. | Marion County Department of Planning, 3150 Lancaster Drive Northeast, Salem, OR 97305. | May 9, 2019 | 410154
Washington (FEMA Docket No.: B-1907). | City of Hillsboro (18-10-0728P). | The Honorable Steve Callaway, Mayor, City of Hillsboro, Civic Center Building, 150 East Main Street, Hillsboro, OR 97123. | City Hall, 150 East Main Street, Hillsboro, OR 97123. | Apr. 25, 2019 | 410243
Washington (FEMA Docket No.: B-1907). | Unincorporated Areas of Washington County (18-10-0728P). | The Honorable Roy Rogers, Mayor, Washington County, 155 North 1st Avenue, Hillsboro, OR 97124. | Washington County Department of Land Use and Transportation, 155 North 1st Avenue, Suite 350, Hillsboro, OR 97124. | Apr. 25, 2019 | 410238
Texas:
Hays (FEMA Docket No.: B-1901). | City of San Marcos (18-06-1845P). | The Honorable John Thomaides, Mayor, City of San Marcos, City Hall, 630 East Hopkins Street, San Marcos, TX 78666. | Engineering Department, City Hall, 630 East Hopkins Street, San Marcos, TX 78666. | Apr. 4, 2019 | 485505
Hays (FEMA Docket No.: B-1901). | Unincorporated Areas of Hays County (18-06-1845P). | The Honorable Bert Cobb, M.D., County Judge, Hays County, Hays County Courthouse, 111 East San Antonio Street, Suite 300, San Marcos, TX 78666. | Hays County Development Services Department, 2171 Yarrington Road, San Marcos, TX 78666. | Apr. 4, 2019 | 480321
Virginia:
Fairfax (FEMA Docket No.: B-1901). | Unincorporated Areas of Fairfax County (18-03-1394P). | The Honorable David L. Meyer, Mayor, Fairfax County, 10455 Armstrong Street, Fairfax, VA 22030. | Fairfax County Community Map Repository/Stormwater Planning, 12000 Government Center Parkway, Suite 449, Fairfax, VA 22035. | Apr. 9, 2019 | 515525
Fairfax (FEMA Docket No.: B-1907). | Unincorporated Areas of Fairfax County (18-03-1475P). | The Honorable Sharon Bulova, Chairman, Fairfax County Board of Supervisors, 12000 Government Center Parkway, Suite 552, Fairfax, VA 22035. | Fairfax County Community Map Repository/Stormwater Planning, 12000 Government Center Parkway, Suite 449, Fairfax, VA 22035. | Apr. 11, 2019 | 515525
Fairfax (FEMA Docket No.: B-1870). | Unincorporated Areas of Fairfax County (18-03-1811P). | Mr. Bryan J. Hill, County Executive, 12000 Government Center Parkway, Suite 552, Fairfax, VA 22035. | Fairfax County Community Map Repository/Stormwater Planning, 12000 Government Center Parkway, Suite 449, Fairfax, VA 22035. | Mar. 6, 2019 | 515525
Washington:
Grays Harbor (FEMA Docket No.: B-1907). | City of Aberdeen (18-10-0100P). | The Honorable Erik Larson, Mayor, City of Aberdeen, City Hall, 200 East Market Street, Aberdeen, WA 98520. | City Hall, 200 East Market Street, Aberdeen, WA 98520. | Apr. 19, 2019 | 530058
Grays Harbor (FEMA Docket No.: B-1907). | Unincorporated Areas of Grays Harbor County (18-10-0100P). | Ms. Vickie Raines, Commissioner, Grays Harbor County Administration Building, 100 West Broadway, Suite 1, Montesano, WA 98563. | Grays Harbor Administration Building, 100 West Broadway, Suite 31, Montesano, WA 98563. | Apr. 19, 2019 | 530057
Pierce (FEMA Docket No.: B-1901). | City of Puyallup (18-10-0841P). | The Honorable John Palmer, Mayor, City of Puyallup, City Hall, 333 South Meridian, Puyallup, WA 98371. | City Hall, 333 South Meridian, Puyallup, WA 98371. | Apr. 4, 2019 | 530144
Pierce (FEMA Docket No.: B-1907). | City of Tacoma (18-10-1374P). | The Honorable Victoria Woodards, Mayor, City of Tacoma, 747 Market Street, 12th Floor, Tacoma, WA 98402. | Municipal Building, 747 Market Street, Tacoma, WA 98402. | Apr. 25, 2019 | 530148
Pierce (FEMA Docket No.: B-1901). | Unincorporated Areas of Pierce County (18-10-0476P). | Mr. Bruce Dammeier, County Executive, Pierce County, 930 Tacoma Avenue South, Room 737, Tacoma, WA 98402. | Pierce County Annex Building, 2401 South 35th Street, Tacoma, WA 98409. | Mar. 27, 2019 | 530138
Spokane (FEMA Docket No.: B-1872). | City of Spokane Valley (18-10-1264P). | The Honorable Rod Higgins, Mayor, City of Spokane Valley, City Hall, 10210 East Sprague Avenue, Spokane Valley, WA 99206. | City Hall, 10210 East Sprague Avenue, Spokane Valley, WA 99206. | Mar. 15, 2019 | 530342
Yakima (FEMA Docket No.: B-1907). | Unincorporated Areas of Yakima County (18-10-0191P). | The Honorable Ron Anderson, Chairman, Board of Yakima County Commissioners, Yakima County Courthouse, 128 North 2nd Street, Room 232, Yakima, WA 98901. | Yakima County Public Services, 128 North 2nd Street, Yakima, WA 98901. | Apr. 5, 2019 | 530217
Wisconsin:
Dodge (FEMA Docket No.: B-1872). | City of Watertown (18-05-4306P). | The Honorable John David, Mayor, City of Watertown, P.O. Box 477, Watertown, WI 53094. | City Hall, 106 Jones Street, Watertown, WI 53094. | Feb. 26, 2019 | 550107
Winnebago (FEMA Docket No.: B-1901). | City of Oshkosh (18-05-2015P). | The Honorable Steve Cummings, Mayor, City of Oshkosh, City Hall, P.O. Box 1130, Oshkosh, WI 54903. | City Hall, 215 Church Avenue, Oshkosh, WI 54903. | Mar. 27, 2019 | 550511
Winnebago (FEMA Docket No.: B-1901). | Unincorporated Area of Winnebago County (18-05-2015P). | Mr. Mark Harris, Executive, Winnebago County, County Courthouse, 415 Jackson Street, Oshkosh, WI 54901. | Winnebago County Zoning Department, 448 Algoma Boulevard, Oshkosh, WI 54901. | Mar. 27, 2019 | 550537

[FR Doc. 2019-12792 Filed 6-17-19; 8:45 am]

BILLING CODE 9110-12-P